DEPARTMENT OF TRANSPORTATION

Surface Transportation Board

[STB Finance Docket No. 33986]

SCTRR, LLC—Operation Exemption—South Central Tennessee Railroad Corp.

SCTRR, LLC (SCTRR), a noncarrier, has filed a verified notice of exemption under 49 CFR 1150.31 to acquire the operating authority on the Centerville Branch between milepost 1, at Colesbury Yard, Dickson, TN, and the end of the track at milepost 52, at Hohenwald, TN, a distance of about 52 miles (line). Approximately 49 miles of the line is owned by the South Central Tennessee Railroad Authority (Authority) and 2.8 miles of the line is owned by CSX Transportation, Inc.¹

¹ The line is currently operated by the South Central Tennessee Railroad Corp. pursuant to an operating agreement with Authority. The South Central Rail Management, LLC, as agent for SCTRR, has entered into an agreement with South Central Tennessee Railroad Corp. and its parent, Rail America, Inc., to purchase the operating authority. SCTRR will replace South Central Tennessee Railroad Corp. as the operator of the line. Authority will maintain title to that portion of the land and track it currently owns.

According to the verified notice of exemption, the parties intended to acquire the operating authority after approval or exemption of the transaction, with operating responsibility to be transferred in mid-January 2001. The earliest the exemption could have been consummated was January 2, 2001, the effective date of the exemption (7 days after the exemption was filed).

This transaction is related to STB Finance Docket No. 33987, Henry G. Hohorst, Bruce Hohorst, Joan D. Hohorst, and Anthony M. Linn—Continuance in Control Exemption—SCTRR, LLC, wherein Henry G. Hohorst, Bruce Hohorst, Joan D. Hohorst, and Anthony M. Linn have filed a verified notice of exemption to continue in control of SCTRR after it acquires the operating authority on the Centerville Branch.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33986, must be filed with the Surface Transportation Board, Office of the Secretary, Case Control Unit, 1925 K Street, NW., Washington, DC 20423-0001. In addition, a copy of each pleading must be served on John F. McHugh, Esq., McHugh & Barnes, P.C., 20 Exchange Place, New York, NY 10005.

Board decisions and notices are available on our website at “www.stb.dot.gov.”

Decided: January 5, 2001.
By the Board, David M. Konschnik, Director, Office of Proceedings.
Vernon A. Williams,
Secretary.

[FR Doc. 01-955 Filed 1-11-01; 8:45 am]

BILLING CODE 4915-00-P